OFFICE OF PERSONNEL MANAGEMENT

[OMB Control No. 3206-0168; Form RI 20-80]

Submission for OMB Review; Request for Extension, Without Change, of a Currently Approved Information Collection

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for extension, without change, of a currently approved information collection. This information collection, “Alternative Annuity Election” (OMB Control No. 3206-0168; Form RI 20-80), is used for individuals who are eligible to elect whether to receive a reduced annuity and a lump-sum payment equal to their retirement contributions (alternative form of annuity) or an unreduced annuity and no lump sum.

There are approximately 200 Alternative Annuity Elections per year. Each form takes approximately 20 minutes to complete. The annual estimated burden is 67 hours.

For copies of this proposal, contact Cyrus S. Benson by telephone at (202) 606-4808, FAX (202) 606-0910 or by e-mail to Cyrus.Benson@opm.gov. Please include a mailing address with your request.

DATES: Comments on this proposal should be received within 30 calendar days from the date of this publication.

ADDRESSES: Send or deliver comments to:

Ronald W. Melton, Deputy Assistant Director, Retirement Services Program, Center for Retirement and Insurance Services, U.S. Office of Personnel Management, 1900 E Street, NW., Room 3305, Washington, DC 20415-3500; and

Alexander Hunt, OPM Desk Officer, Office of Information and Regulatory Affairs, Office of Management and Budget, New Executive Office Building, 725 17th Street, NW., Room 10235, Washington, DC 20503.

For information regarding administrative coordination contact:

Cyrus S. Benson, Team Leader, Publications Team, RIS Support Services/Support Group, U.S. Office of Personnel Management, 1900 E Street, NW., Room 4H28, Washington, DC 20415. (202) 606-0623.

Kathie Ann Whipple,
Acting Director, U.S. Office of Personnel Management.

[FR Doc. E9-6922 Filed 3-27-09; 8:45 am]

BILLING CODE 6325-38-P